FEDERAL RESERVE SYSTEM

Formations of, Acquisitions by, and Mergers of Bank Holding Companies; Correction

This notice corrects a notice (FR Doc. 2015-07792) published on page 18404 of the issue for Monday, April 6, 2015.

Under the Federal Reserve Bank of San Francisco heading, the entry for PacWest Bancorp, and Pacific Western Bank, both in Los Angeles, California, is revised to read as follows:

A. Federal Reserve Bank of San Francisco (Gerald C. Tsai, Director, Applications and Enforcement) 101 Market Street, San Francisco, California 94105-1579:

1. PacWest Bancorp, and Pacific Western Bank, both in Los Angeles, California; to merge with Square 1 Financial, Inc., and thereby indirectly acquire Square 1 Bank, both in Durham, North Carolina.

In connection with this application, Applicants have also applied to acquire Square 1 Ventures, LLC, Square 1 Venture Management 1, L.P., and Square 1 Ventures 1, L.P., all in Durham, North Carolina, and thereby engage in funds management, investment advisory, and private placement activities, pursuant to sections 225.28(b)(6)(i), (b)(7)(i) and (b)(7)(iii), respectively.

Comments on this application must be received by May 1, 2015.

Board of Governors of the Federal Reserve System, April 16, 2015.
Michael J. Lewandowski,
Associate Secretary of the Board.

[FR Doc. 2015-09185 Filed 4-20-15; 8:45 am]

BILLING CODE 6210-01-P